DEPARTMENT OF ENERGY

Federal Energy Regulatory Commission

[Docket Nos. RP99-110-001 and RP00-1-001]

East Tennessee Natural Gas Company; Notice of Refund Report

September 1, 2000.

Take notice on August 25, 2000, East Tennessee Natural Gas Company (East Tennessee) tendered for filing a refund report of Transportation Cost Rate Adjustment amounts credited to customers on their July 14, 2000 invoices.

East Tennessee states that copies of its filing have been mailed to all affected customers and interested state commissions.

Any person desiring to protest said filing should file a protest with the Federal Energy Regulatory Commission, 888 First Street, NE., Washington, DC 20426, in accordance with Section 385.211 of the Commission's Rules and Regulations. All such protests must be filed on or before September 8, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-23060 Filed 9-7-00; 8:45 am]

BILLING CODE 6717-01-M